DEPARTMENT OF TRANSPORTATION

National Highway Traffic Safety Administration

[Docket No. NHTSA-2014-0019]

Technical Report Evaluating Curtain and Side Air Bags

AGENCY: National Highway Traffic Safety Administration (NHTSA), Department of Transportation (DOT).

ACTION: Request for comments on technical report.

SUMMARY: This notice announces NHTSA's publication of a technical report evaluating the fatality-reducing effectiveness of curtain and side air bags in the front seats of passenger cars and LTVs. The report's title is: Updated Estimates of Fatality Reduction by Curtain and Side Air Bags in Side Impacts and Preliminary Analyses of Rollover Curtains.

DATES: Comments must be received no later than June 10, 2014.

ADDRESS: Report: The technical report is available on the Internet for viewing in PDF format at http://www-nrd.nhtsa.dot.gov/Pubs/811882.pdf. You may obtain a copy of the report free of charge by sending a self-addressed mailing label to Charles J. Kahane (NVS-431), National Highway Traffic Safety Administration, Room W53-312, 1200 New Jersey Avenue SE., Washington, DC 20590.

Comments: You may submit comments [identified by Docket Number NHTSA-2014-0019] by any of the following methods:

• Internet: To submit comments electronically, go to the U.S. Government regulations Web site at http://www.regulations.gov. Follow the online instructions for submitting comments.

• Fax: Written comments may be faxed to 202-493-2251.

• Mail: Send comments to Docket Management Facility, U.S. Department of Transportation, 1200 New Jersey Avenue SE., West Building Ground Floor, Room W12-140, Washington, DC 20590.

• Hand Delivery: If you plan to submit written comments by hand or courier, please do so at 1200 New Jersey Avenue SE., West Building Ground Floor, Room W12-140, Washington, DC between 9 a.m. and 5 p.m. Eastern Time, Monday through Friday, except federal holidays.

• You may call Docket Management at 1-800-647-5527.

Instructions: For detailed instructions on submitting comments and additional information see the Comments heading of the Supplementary Information section of this document. Note that all comments received will be posted without change to http://www.regulations.gov, including any personal information provided. Please see the Privacy Act heading in the SUPPLEMENTARY INFORMATION.

FOR FURTHER INFORMATION CONTACT: Charles J. Kahane, Chief, Evaluation Division, NVS-431, National Center for Statistics and Analysis, National Highway Traffic Safety Administration, Room W53-312, 1200 New Jersey Avenue SE., Washington, DC 20590. Telephone: 202-366-2560. Email: chuck.kahane@dot.gov.

SUPPLEMENTARY INFORMATION: Curtain and side air bags are designed to protect occupants in near-side impacts, those to the sides of vehicles adjacent to where the occupants are seated. Four major types of curtain and/or side air bags have been available in the United States since 1996. However, by model year 2011, 85 percent of new cars and LTVs (light trucks and vans) were equipped with curtains plus torso bags for drivers and right-front passengers. Curtains that deploy in rollover crashes began to appear in 2002; by 2011 about 45 percent of new cars and LTVs were equipped with such curtains.

Logistic regression analyses of FARS data through calendar year 2011 show statistically significant fatality reductions for all four types of curtain and side air bags in near-side impacts for drivers and right-front passengers of cars and LTVs: curtains plus torso bags, 31.3 percent (confidence bounds, 25.0 to 37.1%); combination head/torso bags, 24.8 percent (confidence bounds, 17.7 to 31.2%); curtains only, 16.4 percent (confidence bounds, 3.0 to 28.0%); and torso bags only, 7.8 percent (confidence bounds, 0.4 to 14.7%).

Corresponding analyses of far-side impacts do not show corresponding, large benefits for curtain or side air bags. Curtains that deploy in rollover crashes show a statistically significant effect in first-event rollovers: The estimated fatality reduction is 41.3 percent (confidence bounds, 22.5 to 55.5%). Analyses should be repeated in about 3 or 4 years, when there will be considerably more data available.

In 2007, NHTSA upgraded FMVSS No. 214, “Side impact protection” by adding a crash test of a 20 mph side impact with a pole, at a 75-degree angle (72 FR 51908). The agency anticipated that head-protection air bags such as curtains or combination bags would generally be installed to meet the new requirement. In 2011, NHTSA issued FMVSS No. 226, “Ejection mitigation” (76 FR 3212), anticipating that containment of the occupant would be achieved in many vehicles by curtains designed to deploy in rollovers.

The technical report updates NHTSA's preliminary evaluation of curtain and side air bags, issued in 2007 (72 FR 12857).

Comments

How can I influence NHTSA's thinking on this subject?

NHTSA welcomes public review of the technical report. NHTSA will submit to the Docket a response to the comments and, if appropriate, will supplement or revise the report.

How do I prepare and submit comments?

Your comments must be written and in English. To ensure that your comments are correctly filed in the Docket, please include the Docket number of this document (NHTSA-2014-0019) in your comments.

Your primary comments must not be more than 15 pages long (49 CFR 553.21). However, you may attach additional documents to your primary comments. There is no limit on the length of the attachments.

Please submit one copy of your comments, including the attachments, to Docket Management at the address given above under ADDRESSES.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg_reproducible. DOT's guidelines may be accessed at http://www.rita.dot.gov/bts/sites/rita.dot.gov.bts/files/subject_areas/statistical_policy_and_research/data_quality_guidelines/index.html.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.regulations.gov.

How can I be sure that my comments were received?

If you wish Docket Management to notify you upon its receipt of your comments, enclose a self-addressed, stamped postcard in the envelope containing your comments. Upon receiving your comments, Docket Management will return the postcard by mail. You may also periodically access http://www.regulations.gov and enter the number for this docket (NHTSA-2014-0019) to see if your comments are on line.

How do I submit confidential business information?

If you wish to submit any information under a claim of confidentiality, you should submit three copies of your complete submission, including the information you claim to be confidential business information, to the Chief Counsel, NHTSA, U.S. Department of Transportation, 1200 New Jersey Avenue SE., Washington, DC 20590. In addition, you should submit a copy, from which you have deleted the claimed confidential business information, to Docket Management at the address given above under ADDRESSES. When you send a comment containing information claimed to be confidential business information, you should include a cover letter setting forth the information specified in our confidential business information regulation. (49 CFR Part 512.)

Will the agency consider late comments?

In our response, we will consider all comments that Docket Management receives before the close of business on the comment closing date indicated above under DATES. To the extent possible, we will also consider comments that Docket Management receives after that date.

How can I read the comments submitted by other people?

You may read the comments received by Docket Management at the address given above under ADDRESSES. The hours of the Docket are indicated above in the same location.

You may also see the comments on the Internet. To read the comments on the Internet, take the following steps:

(1) Go to the Federal Docket Management System (FDMS) at http://www.regulations.gov.

(2) FDMS provides two basic methods of searching to retrieve dockets and docket materials that are available in the system: (a) “Quick Search” to search using a full-text search engine, or (b) “Advanced Search,” which displays various indexed fields such as the docket name, docket identification number, phase of the action, initiating office, date of issuance, document title, document identification number, type of document, Federal Register reference, CFR citation, etc. Each data field in the advanced search may be searched independently or in combination with other fields, as desired. Each search yields a simultaneous display of all available information found in FDMS that is relevant to the requested subject or topic.

(3) You may download the comments. However, since the comments are imaged documents, instead of word processing documents, the “pdf” versions of the documents are word searchable.

Please note that even after the comment closing date, we will continue to file relevant information in the Docket as it becomes available. Further, some people may submit late comments. Accordingly, we recommend that you periodically check the Docket for new material.

Authority: 49 U.S.C. 30111, 30181-83 delegation of authority at 49 CFR 1.95 and 501.8.

Issued in Washington, DC, on February 4, 2014.
Terry Shelton,
Associate Administrator for the National Center for Statistics and Analysis.

[FR Doc. 2014-02713 Filed 2-7-14; 8:45 am]

BILLING CODE 4910-59-P